MILLENNIUM CHALLENGE CORPORATION

[MCC FR 09-08]

Notice of the March 11, 2009 Millennium Challenge Corporation Board of Directors Meeting; Sunshine Act Meeting—Correction

AGENCY: Millennium Challenge Corporation.

Time and Date: 10 a.m. to 12 p.m., Wednesday, March 11, 2009.

Place: Department of State, 2201 C Street, NW., Washington, DC 20520.

FOR FURTHER INFORMATION CONTACT: Information on the meeting may be obtained from Romell Cummings via e-mail at Board@mcc.gov or by telephone at (202) 521-3600.

Status: Meeting will be closed to the public.

Matters To Be Considered: The Board of Directors (the “Board”) of the Millennium Challenge Corporation (“MCC”) will hold a meeting to discuss issues related to suspension and/or termination of Compact programs with certain countries eligible for assistance under the Millennium Challenge Act of 2003 (MCA); discuss progress on proposed and existing Compacts with certain MCA-eligible countries; discuss MCC's budget outlook for FY 2009 and 2010; discuss MCC's Threshold Program; and consider certain administrative matters. The agenda items are expected to involve the consideration of classified information and the meeting will be closed to the public. These agenda items have been substituted for the items regarding country selection, and MCC's policy on suspension and termination which appeared in the Federal Register notice published Friday, February 27, 2009.

Dated: March 4, 2009.
Henry C. Pitney,
(Acting) Vice President and General Counsel, Millennium Challenge Corporation.

[FR Doc. E9-4993 Filed 3-5-09; 11:15 am]

BILLING CODE 9211-03-P